DEPARTMENT OF COMMERCE

National Institute of Standards and Technology

Announcing a Meeting of the Information Security and Privacy Advisory Board

AGENCY: National Institute of Standards and Technology.

ACTION: Meeting notice.

SUMMARY: Pursuant to the Federal Advisory Committee Act, 5 U.S.C. App., notice is hereby given that the Information Security and Privacy Advisory Board (ISPAB) will meet Wednesday, December 3, 2008 from 8:30 p.m. until 5 p.m., Thursday, December 4, 2008, from 8:30 a.m. until 5 p.m., and Friday, December 5, 2008 from 8 a.m. until 5:15 p.m. All sessions will be open to the public. The Advisory Board was established by the Computer Security Act of 1987 (Pub. L. 100-235) and amended by the Federal Information Security Management Act of 2002 (Pub. L. 107-347) to advise the Secretary of Commerce and the Director of NIST on security and privacy issues pertaining to federal computer systems. Details regarding the Board's activities are available at http://csrc.nist.gov/groups/SMA/ispab/index.html/.

DATES: The meeting will be held on December 3, 2008 from 8:30 p.m. until 5 p.m., December 4, 2008 from 8:30 a.m. until 5 p.m. and December 5, 2008, from 8 a.m. until 5:15 p.m.

ADDRESSES: The meeting will take place at George Washington University Cafritz Conference Center 800 21st Street, NW., Washington, DC, Room 405, on December 3 and 4, 2008 and 3rd Floor Continental Ballroom on December 5, 2008.

FOR FURTHER INFORMATION CONTACT: Ms. Pauline Bowen, Board Secretariat, Information Technology Laboratory, National Institute of Standards and Technology, 100 Bureau Drive, Stop 8930, Gaithersburg, MD 20899-8930, telephone: (301) 975-2938.

SUPPLEMENTARY INFORMATION: Agenda:

—Welcome and Overview

—OMB Update

—USCERT and Einstein

—ID Management

—Privacy Technology Report

—Center for Strategic and International Studies (CSIS) Commission Briefing

—ISC2 Software Credentialing

—Metrics and FISMA 08

—ISPAB Work Plan Discussion

—SCADA Security

—Threat Analysis, IC to Civilian

—Panel—Cloud Computing—Basics

—Panel—Cloud Computing—Security Strengths and Challenges

—Panel—Virtualization—Basics

—Panel—Cloud Computing and Virtualization

Note that agenda items may change without notice because of possible unexpected schedule conflicts of presenters. The final agenda will be posted on the Web site indicated above.

Public Participation: The Board agenda will include a period of time, not to exceed thirty minutes, for oral comments and questions from the public (Thursday, December 5, 2008 at 3:45-4:15 p.m.). Each speaker will be limited to five minutes. Members of the public who are interested in speaking are asked to contact the Board Secretariat at the telephone number indicated above. In addition, written statements are invited and may be submitted to the Board at any time. Written statements should be directed to the ISPAB Secretariat, Information Technology Laboratory, 100 Bureau Drive, Stop 8930, National Institute of Standards and Technology, Gaithersburg, MD 20899-8930. Approximately 15 seats will be available for the public and media on December 3 and 4, 2008 and approximately 200 seats will be available for the public and media on December 5, 2008.

Dated: November 5, 2008.
Patrick Gallagher,
Deputy Director.

[FR Doc. E8-26840 Filed 11-10-08; 8:45 am]

BILLING CODE 3510-13-P